DEPARTMENT OF JUSTICE

Bureau of Justice Assistance

[OJP (BJA)-1282]

Announcement of the Availability of the Defense Procurement Fraud Debarment Program Guide

AGENCY: Office of Justice Programs, Bureau of Justice Assistance, Denial of Federal Benefits Program, Justice.

ACTION: Notice of publication.

SUMMARY: Announcement of the publication of the Defense Procurement Fraud Debarment Program Guide.

DATES: The Program Guide will be available after June 30, 2000.

ADDRESSES: Denial of Federal Benefits Program, Bureau of Justice Assistance, Office of Justice Programs, Department of Justice, 810 Seventh St., NW., Washington DC 20531.

FOR FURTHER INFORMATION CONTACT: For a copy of the Defense Procurement Fraud Debarment Program Guide publication, call Robert T. Watkins, Director, Defense Procurement Fraud Debarment Program, 202-616-3507, (This is not a toll-free number), or visit the website at www.ojp.usdoj.gov/BJA (Click on “BJA Administered Non-Grant Programs”)

SUPPLEMENTARY INFORMATION:

Authority

The Defense Procurement Fraud Debarment Program (DPFD) was established by Section 815 of The National Defense Authorization Act for Fiscal Year 1993 (1993 National Defense Authorization Act), Public Law 102-484, codified at 10 U.S.C. 2408. In particular, the 1993 National Defense Authorization Act requires the Attorney General to establish a single point of contact for Department of Defense (DoD) defense contractors or subcontractors to promptly confirm whether potential employees have been convicted of fraud or any other defense contract-related felony. 10 U.S.C. 2408(c).

Background

In accordance with the National Defense Authorization Act of 1989, Public Law 100-456, individuals who have been convicted of fraud or any other felony arising out of a contract with the DoD, after September 29, 1988, are prohibited from certain forms of employment, contracting and other activities with the DoD. Moreover, the Defense Procurement Fraud Debarment provision of the 1993 National Defense Authorization Act requires the Attorney General to establish a single point of contact for Department of Defense (DoD) defense contractors or subcontractors to promptly confirm whether potential employees have been convicted of fraud or any other defense contract-related felony. 10 U.S.C. 2408(c).

On April 13, 1995, the Attorney General delegated these point of contact duties to the Assistant Attorney General for the Office of Justice Programs (OJP), who re-delegated them to OJP's Bureau of Justice Assistance (BJA). The Director of BJA established the Denial of Federal Benefits Clearinghouse (Clearinghouse) to perform the administrative requirements of the DPFD, as outlined in the 1993 National Defense Authorization Act.

The Clearinghouse responds to inquiries from Federal agencies, defense-related contractors and first tier subcontractors, as a resource in determining the eligibility of individuals to condition in certain types of employment and engage in certain activities with the DoD.

This Notice provides guidance and refers to the availability of the Program Guide which is used to implement this Program.

Dated: June 19, 2000.
Nancy Gist,
Director, Bureau of Justice Assistance.

[FR Doc. 00-16829 Filed 7-3-00; 8:45 am]

BILLING CODE 4410-18-P